FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011657-005.

Title: Zim/Italia U.S. West Coast Space Charter Agreement.

Parties: Zim Israel Navigation Co., Ltd., Italia di Navigazione, S.p.A.

Synopsis: The proposed agreement amendment changes the geographic scope to eliminate France and Greece and reduces Zim's basic allocation from 65 to 50 TEUs. It also makes changes in the provision regarding further sales of slots to Zim under the agreement.

Agreement No.: 011745-004.

Title: Evergreen/Lloyd Triestino/Hatsu Alliance Agreement.

Parties: Evergreen Marine Corp. (Taiwan) Ltd., Hatsu Marine Limited, Lloyd Triestino di Navigazione S.p.A.

Synopsis: The proposed agreement modification increases the number of vessels to be deployed under the agreement and revises the parties' various vessel strings. The parties request expedited review.

Agreement No.: 011789-001.

Title: Contship/Zim Indian Subcontinent Space Charter Agreement.

Parties: Contship Container Lines, Zim Israel Navigation Company, Ltd.

Synopsis: The proposed agreement modification would add ports in Egypt to the geographic scope of the agreement. The parties request expedited review.

Agreement No.: 011792.

Title: NYK/WWL/CSAV South America Space Charter Agreement.

Parties: Nippon Yusen Kaisha, Wallenius Wilhelmsen Lines AS, Compania Sud Americana de Vapores S.A.

Synopsis: The proposed agreement authorizes the parties to share vessel space in the trade between the ports of New York and Miami, on the one hand, and ports in Venezuela, Ecuador, Colombia, Chile, and Peru, on the other hand. The parties request expedited review.

Agreement No.: 201130.

Title: Broward-Discovery Cruise Agreement.

Parties: Broward County, Discovery Cruise Services, Inc.

Synopsis: The agreement is a wharfage agreement covering rates, port charges, and services. The agreement runs through March 5, 2012.

Dated: March 8, 2002.
By Order of the Federal Maritime Commission.
Bryant L. VanBrakle,
Secretary.

[FR Doc. 02-6079 Filed 3-12-02; 8:45 am]

BILLING CODE 6730-01-P